FEDERAL ELECTION COMMISSION

Sunshine Act Notices

DATE AND TIME: Tuesday, December 10, 2002, at 10 am.

PLACE: 999 E Street, NW., Washington, DC.

STATUS: This meeting will be closed to the public.

ITEMS TO BE DISCUSSED: Compliance matters pursuant to 2 U.S.C. 437g.

Audits conducted pursuant to 2 U.S.C. 437g, 438(b), and title 26, U.S.C.

Matters concerning participation in civil actions or proceedings or arbitration.

Internal personnel rules and procedures or matters affecting a particular employee.

DATE AND TIME: Thursday, December 12, 2002, at 10 am.

PLACE: 999 E Street, NW., Washington, DC (Ninth floor).

STATUS: This meeting will be open to the public.

ITEMS TO BE DISCUSSED: Correction and approval of minutes.

Service awards.

Final Audit: Buchanan Foster, Inc.

Final Audit: Gore 2000, Inc. (Primary).

Final Audit: Gore/Lieberman, Inc. and Gore/Lieberman General Election Legal and Accounting Compliance Fund (General).

Final Audit: Keyes 2000.

Final Audit: Bush-Cheney 2000, Inc.

Final Audit: Bush-Cheney 2000 Compliance Committee, Inc.

Interim Rules and Explanation and Justification for BCRA's Millionaires' Amendment.

Final rules and explanation and justification for BCRA reporting.

Notice of proposed rulemaking on Leadership PACs.

Administrative Matters.

PERSON TO CONTACT FOR INFORMATION: Mr. Ron Harris, Press Officer. Telephone: (202) 694-1220.

Mary W. Dove,
Secretary of the Commission.

[FR Doc. 02-30953 Filed 12-3-02; 3:42 pm]

BILLING CODE 6715-01-M